DEPARTMENT OF THE INTERIOR

Bureau of Land Management

[CO-923-1430-ET; COC-70704]

Public Land Order No. 7735; Withdrawal of Public Lands To Protect Townsend's Big-eared Bat Maternity Roosts; Colorado

AGENCY: Bureau of Land Management, Interior.

ACTION: Public Land Order.

SUMMARY: This order withdraws 22.36 acres of public lands from all forms of appropriation under the public land laws, including location under the United States mining laws, for a period of 20 years to protect three sites containing Townsend's Big-eared Bat maternity roosts. The lands have been and will remain open to mineral leasing but no surface occupancy will be permitted on the sites.

DATES: Effective Date: June 11, 2009.

FOR FURTHER INFORMATION CONTACT: Andy Senti, Realty Specialist, BLM Colorado State Office, 303-239-3713.

SUPPLEMENTARY INFORMATION: This withdrawal protects three Townsend's Big-eared Bat maternity roosts found in abandoned mine adits. The adits affected have been depleted of their mineral potential and were abandoned.

Order

By virtue of the authority vested in the Secretary of the Interior by Section 204 of the Federal Land Policy and Management Act of 1976, 43 U.S.C. 1714 (2000), it is ordered as follows:

1. Subject to valid existing rights, the following described public lands are hereby withdrawn from all forms of appropriation under the public land laws, including location under the United States mining laws (30 U.S.C. Ch. 2 (2000)), but not from leasing under the minerals leasing laws, to protect sites containing maternity roosts of Townsend's Big-eared Bats:

New Mexico Principal Meridian;

UTM (Universal Transverse Mercator);

Coordinates Zone 12, E = Easting, N = Northing.

Cory Mine

T. 47 N., R. 17 W.,

Sec. 11, a metes and bounds parcel in the NW¼NW¼: Beginning at Corner No. 1 NE (E = 699073, N = 4246679: running east 593 feet to Corner No. 2 NE (E = 699255, N = 4246701): running south 1,401 feet to Corner No. 3 SE (E = 699250, N = 4246275): running west 530 feet to Corner No. 4 SW (E = 699091, N = 4246255): running north 1,388 feet back to Corner No. 1 NW;

The area described contains approximately 17.8 acres in Montrose County.

Pup Tent Mine

T. 49 N., R. 17 W.,

Sec. 4, a metes and bounds parcel within lot 1 and the NW¼NW¼: Beginning at Corner No. 1 NW (E = 694067, N = 4268314: running easterly 252 feet to Corner No. 2 NE (E = 694141, N = 4268296): running south 252 feet to Corner No. 3 SE (E = 694143, N = 4268220): running westerly 267 feet to Corner No. 4 SW (E= 694067, N = 4268251): running north 207 feet back To Corner No. 1 NW;

The area described contains approximately 1.31 acres in Mesa County.

Mother Bat Mine

T. 43 N., R. 18 W.

Sec. 15, a metes and bounds parcel within the SW¼SE¼: Beginning at Corner No. 1 NE (E = 689846, N = 4206148: running easterly 305 feet to Corner No. 2 NE (E = 689938, N = 4206144): running south 489 feet to Corner No. 3 SE (E = 689908, N = 4206000): running westerly 300 feet to Corner No. 4 SW (E = 689819, N = 4206006: running north 475 feet back to Corner No. 1 SW.

The area described contains approximately 3.25 acres in San Miguel County.

The total areas described aggregate approximately 22.36 acres in Mesa, Montrose, and San Miguel Counties.

2. The withdrawal made by this order does not alter the applicability of those public land laws governing the use of the land under lease, license, or permit, or governing the disposal of the mineral or vegetative resources other than under the mining laws.

3. This withdrawal will expire 20 years from the effective date of this order, unless, as a result of a review conducted before the expiration date pursuant to Section 204(f) of the Federal Land Policy and Management Act of 1976, 43 U.S.C. 1714(f) (2000), the Secretary determines that the withdrawal shall be extended.

Dated: May 26, 2009.
Ken Salazar,
Secretary of the Interior.

[FR Doc. E9-13638 Filed 6-9-09; 8:45 am]

BILLING CODE 4310-JB-P